DEPARTMENT OF HOMELAND SECURITY

Coast Guard

[USCG-2007-28120]

Towing Safety Advisory Committee; Notice of Open Teleconference Meeting

AGENCY: Coast Guard, DHS.

ACTION: Notice of meeting.

SUMMARY: This notice announces a teleconference of the Towing Safety Advisory Committee (TSAC). The purpose of this teleconference is for TSAC to present its comments to the Coast Guard on certain draft regulatory text contemplated for the Notice of Proposed Rule Making for Towing Vessel Inspection currently under development.

DATES: The teleconference call will take place on Tuesday, May 22, 2007, from 11 a.m. until 1 p.m. EDT. The meeting may adjourn early if all business is finished.

ADDRESSES: Members of the public may participate by coming to Room 6319, U.S. Coast Guard Headquarters, 2100 Second Street, SW., Washington, DC 20593-0001.

FOR FURTHER INFORMATION CONTACT: For questions on this notice, contact Mr. Gerald Miante, TSAC's Assistant Executive Director, telephone 202-372-1401, fax 202-372-1926, or e-mail Gerald.P.Miante@uscg.mil.

SUPPLEMENTARY INFORMATION: TSAC advises, consults with, and makes recommendations to the Secretary DHS on matters relating to shallow-draft inland and coastal waterway navigation and towing safety. Notice of these meetings is given under the Federal Advisory Committee Act, 5 U.S.C. App. (Pub. L. 92-463). Members of the public may also participate in this meeting by dialing 1-866-675-0373, pass code 8388087. Public participation is welcomed; however, the number of teleconference lines is limited and available on a first-come, first-served basis.

Tentative Agenda

• Welcome and Opening Remarks—TSAC Chairman (11 a.m.).

• Discussion, presentation and voting of the Committee's recommendations to the Coast Guard on draft text for a Towing Vessel Inspection rulemaking.

• Public comment period (as time permits).

• Meeting adjourned—(1 p.m.).

Procedural

This meeting is open to the public. Please note that the meeting may adjourn early if all business is finished. At the Chair's discretion, members of the public may make oral presentations during the meeting. If you would like to make an oral presentation at the meeting, please notify Mr. Miante no later than May 17, 2007.

Information on Services for Individuals With Disabilities

For information on facilities or services for individuals with disabilities or to request special assistance at the meetings, contact Mr. Miante as soon as possible.

Dated: May 4, 2007.
J.G. Lantz,
Director of National and International Standards, Assistant Commandant for Prevention.

[FR Doc. E7-9061 Filed 5-10-07; 8:45 am]

BILLING CODE 4910-15-P